DEPARTMENT OF HEALTH AND HUMAN SERVICES

Food and Drug Administration

21 CFR Part 101

[Docket No. FDA-2022-N-2898]

Food Labeling, Infant Formula Requirements, Food Additives and Generally Recognized as Safe Substances, New Dietary Ingredient Notification; Technical Amendments; Correction

AGENCY: Food and Drug Administration, HHS.

ACTION: Final rule; technical amendments; correction.

SUMMARY: The Food and Drug Administration is correcting a final rule entitled “Food Labeling, Infant Formula Requirements, Food Additives and Generally Recognized as Safe Substances, New Dietary Ingredient Notification; Technical Amendments” that appeared in the Federal Register of March 24, 2023. The final rule corrected typographical errors, corrected errors in sample labels, restored inadvertent omissions, and updated office and organization names, addresses, and other references. The document was published with an incorrect abbreviation to “Potassium” in the codified language. This document corrects that error.

DATES: Effective May 24, 2023.

FOR FURTHER INFORMATION CONTACT: Mark Kantor, Office of Nutrition and Food Labeling (HFS-830), Center for Food Safety and Applied Nutrition, Food and Drug Administration, 5001 Campus Dr., College Park, MD 20740, 240-402-1450; or Alexandra Jurewitz, Office of Regulations and Policy (HFS-024), Center for Food Safety and Applied Nutrition, Food and Drug Administration, 5001 Campus Dr., College Park, MD 20740, 240-402-2378.

SUPPLEMENTARY INFORMATION: In the Federal Register of Friday, March 24, 2023 (88 FR 17710 at 17718), an incorrect abbreviation to “Potassium” appeared in § 101.9(j)(13)(ii)(B) of the codified language. This document corrects that error.

List of Subjects in 21 CFR Part 101

Food Labeling, Nutrition, Reporting and recordkeeping requirements.

For the reasons stated in the preamble, FDA is correcting 21 CFR part 101 with the following correcting amendment:

PART 101—FOOD LABELING

1. The authority citation for part 101 continues to read as follows:

Authority: 15 U.S.C. 1453, 1454, 1455; 21 U.S.C. 321, 331, 342, 343, 348, 371; 42 U.S.C. 243, 264, 271.

§ 101.9 [Amended]

2. In § 101.9, amend paragraph (j)(13)(ii)(B) by removing “Potassium—Pot.” and replacing it with “Potassium—Potas.”.

Dated: May 15, 2023.
Lauren K. Roth,
Associate Commissioner for Policy.

[FR Doc. 2023-10602 Filed 5-23-23; 8:45 am]

BILLING CODE 4164-01-P